DEPARTMENT OF DEFENSE

Office of the Secretary

[Docket ID: DoD-2015-OS-0011]

Privacy Act of 1974; System of Records

AGENCY: Defense Contract Audit Agency, DoD.

ACTION: Notice to alter a System of Records.

SUMMARY: The Defense Contract Audit Agency (DCAA) proposes to amend a system of records notice, RDCAA 240.3, entitled “Legal Opinions” in its existing inventory of record systems subject to the Privacy Act of 1974, as amended. This system is used to maintain a historical reference for matters of legal precedence within DCAA to ensure consistency of action and the legal sufficiency of personnel actions.

DATES: Comments will be accepted on or before March 9, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, Telephone number: (703) 767-1022.

SUPPLEMENTARY INFORMATION: The Defense Contract Audit Agency system of records notices subject to the Privacy Act of 1974, as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on January 16, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 30, 2015.
Aaron Siegel,
Alternate OSD Federal Register Liaison Officer, Department of Defense.

RDCAA 240.3

System name:

Legal Opinions (January 3, 2011, 76 FR 115)

Changes:

* * * * *

Categories of individuals covered by the system:

Delete entry and replace with “Any DCAA employee who is involved in personnel-related issues that require a legal opinion or legal representation for resolution.”

Categories of records in the system:

Delete entry and replace with “Full name of the individual, current address and telephone number. Office of the General Counsel files contain documents and background material related to: fraud investigations; personnel matters, including grievances and matters within the jurisdiction of the Equal Employment Opportunity Commission, Merit Systems Protection Board, Office of Special Counsel, and Federal Labor Relations Authority; and security violations. Files contain copies of interoffice memoranda, statements of witnesses, reports of interviews and hearings, investigative materials, litigation reports, pleadings, correspondence, notes, Agency determinations, decision documents, and materials developed during, or in anticipation of, litigation.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the DCAA's compilation of systems of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Paper records and/or electronic storage media.”

Retrievability:

Delete entry and replace with “By individual's name, subject, and case number.”

Safeguards:

Delete entry and replace with “Under staff supervision during duty hours; security guards are provided during non-duty hours. Access to facilities is limited to security-cleared personnel and escorted visitors only. Files are stored in lockable containers and on electronic media made available only to individuals specifically authorized to access (e.g., access is controlled by computer accounts and passwords).”

* * * * *

System manager(s) and address:

Delete entry and replace with “General Counsel, Headquarters, Defense Contract Audit Agency, 8725 John J. Kingman Road, Suite 2135, Fort Belvoir, VA 22060-6219.”

* * * * *

Contesting record procedures:

Delete entry and replace with “DCAA's rules for accessing records, for contesting contents and appealing initial agency determinations are published in DCAA Instruction 5410.10; 32 CFR part 317; or may be obtained from the system manager.”

* * * * *

[FR Doc. 2015-02219 Filed 2-4-15; 8:45 am]

BILLING CODE 5001-06-P